DEPARTMENT OF DEFENSE

Office of the Secretary

[Transmittal Nos. 13-77]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-77 with attached transmittal, policy justification, and Sensitivity of Technology.

Dated: March 4, 2014.
Aaron Siegel,
Alternate OSD Federal Register Liaison Officer, Department of Defense.

BILLING CODE 5001-06-P

BILLING CODE 5001-06-C

Transmittal No. 13-77

Notice of Proposed Issuance of Letter of Offer Pursuant to Section 36(b)(1) of the Arms Export Control Act, as amended

(i) Prospective Purchaser: Norway

(ii) Total Estimated Value:

Major Defense Equipment* | $69 million
Other | $11 million
TOTAL | $80 million

(iii) Description and Quantity or Quantities of Articles or Services under Consideration for Purchase: 36 AIM-120C-7 Advanced Medium Range Air-to-Air Missiles (AMRAAM), 8 Captive Air Training Missiles (CATMs), containers, support equipment, spare and repair parts, Common Munitions Bit/Reprogramming Equipment (CMBRE), publications and technical documentation, U.S. Government and contractor logistics support services, and other related elements of logistics support.

(iv) Military Department: Air Force (YME)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 26 February 2014

* As defined in Section 47(6) of the Arms Export Control Act.

POLICY JUSTIFICATION

Norway—AIM-120C-7 AMRAAM Missiles

The Government of Norway has requested a possible sale of 36 AIM-120C-7 Advanced Medium Range Air-to-Air Missiles (AMRAAM), 8 Captive Air Training Missiles (CATMs), containers, support equipment, spare and repair parts, Common Munitions Bit/Reprogramming Equipment (CMBRE), publications and technical documentation, U.S. Government and contractor logistics support services, and other related elements of logistics support. The estimated cost is $80 million.

The proposed sale will contribute to the foreign policy and national security of the United States by helping to improve the security of a NATO ally which has been, and continues to be, an important force for political stability and economic progress in Europe.

The Government of Norway requires these capabilities for mutual defense, regional security, force modernization, and U.S. and NATO interoperability. This sale will enhance the Royal Norwegian Air Force's ability to defend Norway against future threats and contribute to current and future NATO operations.

The proposed sale of this equipment and support will not alter the basic military balance in the region.

The principal contractor will be Raytheon Corporation in Waltham, Massachusetts. There are no known offset agreements proposed in connection with this potential sale.

Implementation of this proposed sale will not require the assignment of any additional U.S. Government or contractor representatives to Norway.

There will be no adverse impact on U.S. defense readiness as a result of this proposed sale.

Transmittal No. 13-77

Notice of Proposed Issuance of Letter of Offer Pursuant to Section 36(b)(1) of the Arms Export Control Act

Annex

Item No. vii

(vii) Sensitivity of Technology

1. AIM-120C-7 Advanced Medium Range Air-to-Air Missile (AMRAAM): The AIM-120 is a radar guided missile featuring digital technology and micro-miniature solid-state electronics. AMRAAM capabilities include look-down/shoot-down, multiple launches against multiple targets, resistance to electronic countermeasures, and interception of high- and low-flying and maneuvering targets. The AMRAAM All Up Round (AUR) is classified Confidential, major components and subsystems range from Unclassified to Confidential, and technical data and other documentation are classified up to Secret.

2. A determination has been made that Norway can provide substantially the same degree of protection for the sensitive information being released as the U.S. Government. This sale is necessary in furtherance of the U.S. foreign policy and national security objective outlined in the Policy Justification.

3. If a technologically advanced adversary were to obtain knowledge of the specific hardware and software elements, the information could be used to develop countermeasures that might reduce weapon system effectiveness or be used in the development of a system with similar or advanced capabilities.

4. All defense articles and services listed in this transmittal have been authorized for release and export to the Government of Norway.

[FR Doc. 2014-04989 Filed 3-6-14; 8:45 am]

BILLING CODE 5001-06-P